DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and marine mammals.

DATES: Written data, comments or requests must be received by September 30, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

PRT-108887

Applicant: Darlene Ketten, Ph.D., Woods Hole, MA.

The applicant requests a permit to import biological samples and/or whole carcasses from wild, captive-held and/or captive-hatched Kemp's ridley sea turtle (Lepidochelys kempii), olive ridley sea turtle (Lepidochelys olivacea), green sea turtle (Chelonia mydas), and leatherback sea turtle (Dermochelys coriacea) for the purpose of scientific research. Samples and/or whole carcasses will be collected opportunistically from salvaged specimens and will be used for analyses of the impacts of sound on anatomical structures. This notification covers activities to be conducted by the applicant over a five-year period.

PRT-101628

Applicant: Miami Metrozoo (Miami-Dade County Parks/Zoo), Miami, Florida.

The applicant requests a permit for interstate commerce to purchase a female Asian elephant (Elephas maximus), “Nellie,” born approximately 1969 from R.W. Commerford & Sons, Goshen, Connecticut. The animal has been on long-term loan to the Miami Metrozoo since December 2000. The purpose of the requested activity is for breeding, conservation education, and enhancement of the survival of the species.

Endangered Marine Mammals

The public is invited to comment on the following application for a permit to conduct certain activities with endangered marine mammals. The application was submitted to satisfy requirements of the Endangered Species Act of 1973, as amended (16 U.S.C. 1531 et seq.) and the Marine Mammal Protection Act of 1972, as amended (16 U.S.C. 1361 et seq.), and the regulations governing endangered species (50 CFR part 17) and marine mammals (50 CFR part 18). Written data, comments, or requests for copies of the complete application or requests for a public hearing on this application should be submitted to the Director (address above). Anyone requesting a hearing should give specific reasons why a hearing would be appropriate. The holding of such a hearing is at the discretion of the Director.

PRT-100361

Applicant: Mote Marine Laboratory, Sarasota, FL.

The applicant requests a permit to take West Indian manatees (Trichechus manatus) throughout Florida and import specimens from the Caribbean region and import specimens of South American manatee (Trichechus inunguis), West African manatee (Trichechus senegalensis), and dugong (Dugong dugong) for the purpose of scientific research including collection and importation of biological samples, physiological analyses, aerial surveys and close approach for photo identification and behavioral surveys. This notification covers activities to be conducted by the applicant over a five-year period.

Concurrent with the publication of this notice in the Federal Register, the Division of Management Authority is forwarding copies of the above applications to the Marine Mammal Commission and the Committee of Scientific Advisors for their review.

Dated: August 19, 2005.
Monica Farris,
Senior Permit Biologist, Branch of Permits, Division of Management Authority.

[FR Doc. 05-17331 Filed 8-30-05; 8:45 am]

BILLING CODE 4310-55-P